DEPARTMENT OF ENERGY

Federal Energy Regulatory Commission

[Docket No. CP10-14-000]

Kern River Gas Transmission Company; Notice of Availability of the Final Environmental Impact Statement for the Proposed APEX Expansion Project

July 23, 2010.

The staff of the Federal Energy Regulatory Commission (FERC or Commission) has prepared a final environmental impact statement (EIS) for the Apex Expansion Project proposed by Kern River Gas Transmission Company (Kern River) in the above-referenced docket. Kern River requests authorization to expand its natural gas pipeline system in Wyoming, Utah, and Nevada, to transport an additional 266 million cubic feet per day of natural gas from existing receipt points in southwestern Wyoming, to existing delivery connections in southern Nevada.

The final EIS assesses the potential environmental effects of the construction and operation of the Apex Expansion Project in accordance with the requirements of the National Environmental Policy Act of 1969 (NEPA). The FERC staff concludes that approval of the proposed project would have some adverse environmental impact; however, these impacts would be reduced to less-than-significant levels with the implementation of Kern River's proposed mitigation and the additional measures recommended in the final EIS.

The Bureau of Land Management (BLM), the Forest Service (USFS), and the Bureau of Reclamation (Reclamation) participated as cooperating agencies in the preparation of the EIS. Cooperating agencies have jurisdiction by law or special expertise with respect to resources potentially affected by the proposal and participate in the NEPA analysis. The cooperating agencies will adopt and use the EIS to consider the issuance of right-of-way grants on federally administered lands. While the conclusions and recommendations presented in the final EIS were developed with input from the cooperating agencies, the agencies will present their own conclusions and recommendations in their respective Records of Decision for the project.

The final EIS addresses the potential environmental effects of the construction and operation of the following project facilities:

• Approximately 27.6 miles of 36-inch-diameter natural gas pipeline loop ¹ extending southwest in Utah from Morgan County, through Davis to Salt Lake County;

¹ A loop is a segment of pipe that is usually installed adjacent to an existing pipeline and connected to it at both ends. The loop allows more gas to be moved through the system.

• One new 30,000-horsepower compressor station (known as the Milford Compressor Station) in Beaver County, Utah;

• Modifications to four existing compressor stations to add additional compression: The Coyote Creek Compressor Station located in Uinta County, Wyoming; the Elberta Compressor Station located in Utah County, Utah; the Fillmore Compressor Station located in Millard County, Utah; and the Dry Lake Compressor Station located in Clark County, Nevada;

• Six mainline valves; and

• Three pig ² launcher and two pig receiver facilities.

² A pig is an internal tool that can be used to clean and dry a pipeline and/or to inspect it for damage or corrosion.

The final EIS has been placed in the public files of the FERC and is available for public viewing on the FERC's Web site at http://www.ferc.gov. A limited number of copies are available for distribution and public inspection at: Federal Energy Regulatory Commission, Public Reference Room, 888 First Street, NE., Room 2A, Washington, DC 20426, (202) 502-8371.

Copies of the EIS have been mailed to federal, state, and local government representatives and agencies; elected officials; environmental and public interest groups; Native American tribes; local newspapers and libraries in the project area; parties to this proceeding; and potentially affected landowners and other interested individuals and groups. Paper copy versions of this EIS were mailed to those specifically requesting them; all others received a CD version.

Questions?

Additional information about the project is available from the Commission's Office of External Affairs, at (866) 208-FERC or on the FERC (http://www.ferc.gov) using the eLibrary link. Click on the eLibrary link, click on “General Search,” and enter the docket number excluding the last three digits in the Docket Number field (i.e., CP10-14). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. 2010-18838 Filed 7-30-10; 8:45 am]

BILLING CODE 6717-01-P